DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before May 29, 2007.

ADDRESSES: You may submit your comments, identified by “docket number” on the subject line, by any of the following methods:

1. E-mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. If you submit your comments by hand-delivery, you are required to check in at the receptionist desk on the 21st floor.

Copies of the petitions and comments will be available during normal business hours at the address listed above.

FOR FURTHER INFORMATION CONTACT: Ria Moore Benedict, Deputy Director, Office of Standards, Regulations, and Variances at 202-693-9443 (Voice), benedict.ria@dol.gov (E-mail), or 202-693-9441 (Telefax), or you can contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists that will at all times guarantee no less than the same measure of protection afforded the miners of such mine by such standard; or (2) the application of such standard to such mine will result in a diminution of safety to the miners in such mine. In addition, the regulations at 30 CFR §§ 44.10 and 44.11 establish the requirements and procedures for filing petitions for modifications.

II. Petitions for Modification

Docket Number: M-2006-090-C.

Petitioner: Vandyke Mining, Inc., P.O. Box 207, Tazewell, Virginia 24651.

Mine: Dom No. 7 Mill Branch Refuse Pile, Site I.D. 1211 VA5-0358-01, and (MSHA I.D. No. 44-06718), located in Buchanan County, Virginia.

Regulation Affected: 30 CFR 77.214(a) (Refuse piles; general).

Modification Request: The petitioner requests a modification of the existing standard to permit abandoned mine openings to be covered with coarse scalp rock refuse material. The petitioner proposes to use scalp rock refuse to cover the mine bench in an area containing abandoned mine openings. The petitioner states that: (1) This modification will not jeopardize the safety of any miners at the mine or refuse disposal area; (2) there are presently a total of four (4) mine openings in the area to be filled with refuse located in Mill Branch of Dismal near Whitewood in Buchanan County, Virginia, in the Jawbone coal seam at the approximate elevation of 1910.00 (formerly mined under Dominion Coal Corporation, Mine No. 7); and (3) the existing mine bench will be used as the location to place scalp rock refuse. The petitioner further proposes to use the following methodology to seal the mine openings: (1) Remove all sloughed overburden of 10 to 12 feet in front of and to either side of the drift openings to allow placement of suitable material for sealing; (2) Install an 18 pipe wet seal in the lowest entry to prevent water from impounding in the mine void. The pipe will be covered with gravel and the pipe will extend through the refuse pile area and directed into the natural drainage course; (3) Backfill all drifts to a height of four (4) feet above the drifts or to four (4) feet above any visible cracks above the drifts with an impervious, non-combustible material which should contain enough fines to ensure an airtight seal and which is compacted to 90 percent of the Proctor. All backfill material will be placed in 2-foot lifts; and (4) Backfill all exposed coal seams in the vicinity of the openings to a minimum of 4 feet above the top of the coal seam.

Docket Number: M-2007-001-C.

Petitioner: Twentymile Coal Company, Three Gateway Center, Suite 1340, 401 Liberty Avenue, Pittsburgh, Pennsylvania 15222.

Mine: Foidel Creek Mine, (MSHA I.D. No. 05-03856), located in Routt County, Colorado.

Regulation Affected: 30 CFR 75.507-1(a) (Electric equipment other than power-connection points; outby the last open crosscut; return air; permissibility requirements).

Modification Request: The petitioner requests a modification of the existing standard to permit the use of battery powered non-permissible hand-held computers in the return airways. The petitioner proposes to use Dell AMIM X50/X50v hand-held computers to allow supervisors and selected miners to collect and record data pertinent to safety observations during work processes. The data recorded in the hand-held computers will be downloaded at the end of the shift and collated with other data to allow the petitioner to proactively correct unsafe practices and prevent accidents before they occur. In the alternative, the petitioner would require all hand-held computers to be examined by a certified person. In addition, a qualified person who is properly trained would monitor continuously for methane before and during their use. The petitioner would de-energize any hand-held computers at methane concentrations of 1.0% or above.

Docket Number: M-2007-002-C.

Petitioner: Twentymile Coal Company, Three Gateway Center, Suite 1340, 401 Liberty Avenue, Pittsburgh, Pennsylvania 15222.

Mine: Foidel Creek Mine, (MSHA I.D. No. 05-03836), located in Routt County, Colorado.

Regulation Affected: 30 CFR 75.1002(a) (Installation of electric equipment and conductors; permissibility).

Modification Request: The petitioner is amending its petition for modification of the existing standard to permit an alternative method of compliance to permit the use of battery-powered non-permissible hand-held computers on longwall faces or within 150 feet of pillar workings. The petitioner proposes to use the hand-held computers to allow supervisors and selected miners to collect and record data pertinent to safety observations during work processes. The petitioner states that the data will be recorded in the hand-held computers (such as the Dell AMIM X50/X50v) and downloaded at the end of the shift and collated with other data to allow Twentymile to proactively correct unsafe practices and prevent accidents before they occur. In the alternative, the petitioner would require all hand-held computers to be examined by a certified person. In addition, a qualified person who is properly trained would monitor continuously for methane before and during their use. The petitioner would de-energize any hand-held computers at methane concentrations of 1.0% or above. The petitioner asserts that implementation of this petition will enhance the safety of the miners and improve the overall level of protection afforded them. The petitioner further asserts that the proposed alternative method will provide an equal measure of protection as that afforded by the standard.

Docket Number: M-2007-003-C.

Petitioner: Summit Engineering, Inc., on behalf of Stirrat Coal Company, P.O. Box 484, Omar, West Virginia 25638.

Mine: Mine No. 21, (MSHA I.D. No. 46-02515), located in Logan County, West Virginia.

Regulation Affected: 30 CFR 77.214(a) (Refuse piles; general).

Modification Request: The petitioner requests modification of the existing standard to permit four (4) existing mine openings to be backfilled with acid producing soil. The petitioner proposes to: (1) Extend the soil approximately 25 feet into the mine and at least 4 feet in all directions beyond the limits of the mine opening; (2) cover any exposed coal seam along the mine bench with soil at least 4 feet above the coal seam; (3) install a rock underdrain along the mine openings that would consist of approximately 6-inch (O.D.) SDR 11 high density polyethylene pipes installed in the lowest elevation mine opening; and (4) install riser pipes at the ends of the pipes to establish water seals. The petitioner states that the existing mine bench and highwall will then be reclaimed with breaker rock coal refuse, and the breaker rock material will be placed at 3:1V (Horizontal; Vertical) slope. The petitioner asserts that the slope shall be soil covered and revegetated in accordance with the approved WVDEP reclamation permit, and since the existing mine is abandoned, this plan will provide the same measure of protection for the miners as given to them by the standard.

Docket Number: M-2007-004-C.

Petitioner: Pinn Oak Resources, LLC on behalf of Oak Grove Resources, LLC, 8800 Oak Grove Mine Road, Adger, Alabama 35006.

Mine: Oak Grove Mine, (MSHA I.D. No. 01-00851), located Jefferson County, Alabama.

Regulation Affected: 30 CFR 75.364(b) (Weekly examination).

Modification Request: The petitioner requests a modification of the existing standard to permit a certified person to make weekly examinations of the Second East Return using evaluation points. The petitioner bases its request on the hazardous conditions of this area. The petitioner states that: (1) These evaluation points and all approaches to the evaluation points will be maintained in a safe condition; (2) the test for proper quantity, quality, and direction of air will be determined weekly by a certified person at all proposed evaluation points; and (3) the person making the examinations and test will place his/her initials, date, and time at each proposed evaluation point and record the results in a book, which will be maintained on the surface and made available for inspection by interested persons. The petitioner further states that use of evaluation points to measure air and gas will provide an accurate picture of the conditions in the air course without unduly exposing persons to hazards. The petitioner asserts that the proposed alternative method will at all times guarantee no less than the same measure of protection of all miners at the Oak Grove Mine.

Docket Number: M-2007-005-C.

Petitioner: ICG Eastern, LLC, P.O. Box 273, Charleston, West Virginia 25301.

Mine: Birch River Mine, (MSHA I.D. No. 46-07945), located in Webster County, West Virginia.

Regulation Affected: 30 CFR 77.501 (Electric distribution circuits and equipment; repair).

Modification Request: The petitioner requests a modification of the existing standard to permit an alternative method for working on electrical equipment. The petitioner proposes to: (1) Designate a certified electrician to disconnect electricity, to visually observe that the connecting devices on high-voltage circuits are in the open position, lockout the electricity disconnect where possible, tag the disconnection device, and test to assure proper disconnection and ground; (2) have the designated certified electrician make personal, verbal contact with all work areas involved to inform the workers either by radio, intercom, or in person, that power has been disconnected and that circuits or equipment are ready to repair. The petitioner states that no work will be performed until the notification has been received by the certified electrician or the designated person(s) responsible for performing maintenance work, and that on occasion, maintenance work will be performed and the equipment will need to be de-energized but a certified electrician may not be required to be present at the work site if only maintenance work is being performed. Petitioner further states that no work will be performed until the designated person at the work site reports back to the designated certified electrician at the power source that the power has been de-energized. Petitioner asserts that the same verification process will be used to re-energize the equipment. Petitioner also states that if only one certified electrician is employed on any given shift and electrical work has to be performed, this variance will not apply and ICG must comply with the provision of 30 CFR 77.501. The petitioner has listed additional procedures in this petition that will be used when the proposed alternative method is implemented. Persons may review a complete description of the procedures at the MSHA address listed in this notice. The petitioner asserts that the alternative method will at all times guarantee no less that the same measure of protection from the potential hazards of accidental electrocution against which 30 CFR 77.501 was intended to guard.

Docket Number: M-2007-006-C.

Petitioner: Knight Hawk Coal, LLC, 7290 County Line Road, Cutler, Illinois 62238.

Mine: Prairie Eagle Underground Mine, (MSHA I.D. No. 11-03147), located in Perry County, Illinois.

Regulation Affected: 30 CFR 75.503 (Permissible electric face equipment; maintenance) and 30 CFR 18.35 (Portable trailing Cables and Cords).

Modification Request: The petitioner requests a modification of the existing standard to permit trailing cables that supply power to permissible equipment used in continuous mining sections to be increased to the maximum length. The petitioner states that: (1) This petition will only apply to trailing cables supplying three-phase, 995-volt power to continuous mining machines and trailing cables supplying three-phase, 480-volt power to roof bolters; (2) the maximum length of the 995-volt continuous mining machine trailing cables will be 950 feet, and the maximum length of 480-volt trailing cable for roof bolters will be 900 feet; and (3) the 995-volt continuous mining machine trailing cable will not be smaller than 2/0 and the 480-volt trailing cables for roof bolters will not be smaller than #2 AWG. The petitioner has listed specific procedures in this petition, such as for trip setting of the circuit breakers, labeling, inspections, training, and splicing, which will be used when the proposed alternative method is implemented. Persons may review a complete description of these procedures at the MSHA address listed in this notice. The petitioner asserts that the proposed alternative method will at all times guarantee no less than the same measure of protection to all miners at the Prairie Eagle Underground Mine as would be provided by the mandatory standard.

Docket Number: M-2007-001-M.

Petitioner: Ararat Rock Products Company, P.O. Box 988, Mount Airy, North Carolina 27030.

Mine: Surry Mine and Mill, (MSHA I.D. No. 31-00002), located in Surry County, North Carolina.

Regulation Affected: 30 CFR 56.17001 (Illumination of surface working areas).

Modification Request: The petitioner requests a modification of the existing standard to permit the use of hydraulic hammers without lights on the booms on Caterpillar 235C excavator, Serial Number 2PG00480, and Caterpillar 245 excavator, Serial Number 95V802. The petitioner states that: (1) They only operate during the daylight hours of 7:30 a.m. to 4:30 p.m. year round; (2) the nature of their stone is hard and produces heavy vibrations, which presents a problem in maintaining lights on the booms of the hydraulic hammers; and (3) all miners will be withdrawn from the equipment that is in operation when visibility is limited. The petitioner further states that in the event of rain, snow, or fog in the pit area where the hammers are located all activity will cease, and the cab lights will be retained and maintained because they are not subject to the shock and vibration like the boom lights. The petitioner asserts that application of the existing standard reduces the safety of the mechanics because constant repair to the boom lights exposes them to strains as well as slips, trips, and falls.

Docket Number: M-2007-002-M.

Petitioner: Oldcastle Industrial Minerals, 550 South Biesecker Road, Thomasville, Pennsylvania 17364.

Mine: Thomasville Mine, (MSHA I.D. No. 36-03432), located in York County, Pennsylvania.

Regulation Affected: 30 CFR 49.2(b) (Availability of mine rescue teams).

Modification Request: The petitioner requests a modification of the existing standard to permit the use of two mine rescue teams of three members with one alternate for each team instead of two teams of five members and one alternate for each team. The petitioner states that the underground mine is small and there is not enough room to accommodate more than three or four miners in the working places, and to use five or more rescue team members in the confined working places of the mine would result in a diminution of safety to the miners and the members of the mine rescue team. Petitioner also asserts that because electric power does not reach the bottom of the slope and is hauled by hand trammed cars, the risk of disaster is considerably reduced. Finally, petitioner states that the Pennsylvania Deep Mine Safety and other surrounding mines will assist them in an emergency. The petitioner asserts that the proposed alternative method will in no way provide less than the same measure of protection afforded the miners under the existing standard.

Dated: April 20, 2007.
Patricia W. Silvey,
Director, Office of Standards, Regulations, and Variances.

[FR Doc. E7-8004 Filed 4-25-07; 8:45 am]

BILLING CODE 4510-43-P